DEPARTMENT OF TRANSPORTATION

Federal Aviation Administration

[Docket No. 29967]

Airport Privatization Pilot Program; Correction

AGENCY: Federal Aviation Administration (FAA), DOT.

ACTION: Notice of acceptance for review: Preliminary application for Rafael Hernandex Airport, Aguadilla, Puerto Rico; correction.

SUMMARY: This document contains a correction to a notice of acceptance for review. The Federal Aviation Administration (FAA) completed its review of the Rafael Hernandez Airport (BQN) preliminary application for participation in the airport privatization pilot program. The preliminary application was accepted for review, with a filing date of December 20, 1999.

FOR FURTHER INFORMATION CONTACT: Kevin C. Willis (202) 267-8741.

Correction of Publication

In Fr Doc. 00-3823, beginning on page 9304 in the Federal Register issue of February 24, 2000, make the following corrections:

1. On page 9304, in column 3, in the heading section, beginning on line 3, insert the docket number to read, “[Docket No. 29967]”.

2. On page 9305, in column 1, on the fourth line, immediately following “(AGC-200)”, insert, “Docket No. “[29967]”.

Issued in Washington, DC on April 28, 2000.
Donald P. Byrne,
Assistant Chief Counsel, Regulations Division.

[FR Doc. 00-11166 Filed 5-3-00; 8:45 am]

BILLING CODE 4910-13-M